NATIONAL AERONAUTICS AND SPACE ADMINISTRATION

[21-016]

KSC COVID-19 Vaccine Scheduling Application

AGENCY: National Aeronautics and Space Administration (NASA).

ACTION: Notice of information collection.

SUMMARY: The National Aeronautics and Space Administration, as part of its continuing effort to reduce paperwork and respondent burden, invites the general public and other Federal agencies to take this opportunity to comment on proposed and/or continuing information collections.

DATES: Comments are due by April 28, 2021.

ADDRESSES: Written comments and recommendations for this information collection should be sent within 30 days of publication of this notice to www.reginfo.gov/public/do/PRAMain. Find this particular information collection by selecting “Currently under 30-day Review—Open for Public Comments” or by using the search function.

FOR FURTHER INFORMATION CONTACT: Requests for additional information or copies of the information collection instrument(s) and instructions should be directed to Claire Little, NASA Clearance Officer, NASA Headquarters, 300 E Street SW, JF0000, Washington, DC 20546 or email claire.a.little@nasa.gov.

SUPPLEMENTARY INFORMATION:

I. Abstract

Kennedy Space Center (KSC) has been tasked by National Aeronautics and Space Administration (NASA) to prepare to provide COVID-19 vaccines to a prioritized set of employees. These vaccines could be provided to KSC by either the State of Florida Department of Health (via the Florida State Health Online Tracking System (SHOTS) program) or directly by the Federal Government.

Employee data and other medical data related to the vaccination, is required by the State of Florida to be uploaded to the Florida SHOTS website within 24 hours of vaccination. This data is also required by NASA to be entered into the Agency's CORITY electronic health records system, and subsequently be provide to the Centers for Disease Control and Prevention (CDC).

II. Methods of Collection

Eventbrite will be used to gather a subset of this data electronically directly from the employee during registration in lieu of manual entry based on a completed paper form.

III. Data

Title: KSC COVID-19 Vaccine Scheduling application.

OMB Number: 2700-

Type of Review: New.

Affected Public: Government Contractors and Civil Servants.

Estimated Annual Number of Activities: 1.

Estimated Number of Respondents per Activity: 3,336.

Annual Responses: 3,336.

Estimated Time per Response: 5 minutes.

Estimated Total Annual Burden Hours: 278 hours.

Estimated Total Annual Cost: $11,073.60.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

Lori Parker,
NASA PRA Clearance Officer.

[FR Doc. 2021-06437 Filed 3-26-21; 8:45 am]

BILLING CODE 7510-13-P